FEDERAL COMMUNICATIONS COMMISSION

Notice of Public Information Collection(s) Being Submitted for Review and Approval to the Office of Management and Budget (OMB), Comments Requested

October 25, 2010.

SUMMARY: The Federal Communications Commission, as part of its continuing effort to reduce paperwork burden, invites the general public and other Federal agencies to take this opportunity to comment on the following information collection(s), as required by the Paperwork Reduction Act (PRA) of 1995, 44 U.S.C. 3501—3520. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burdens on small business concerns with fewer than 25 employees.

The FCC may not conduct or sponsor a collection of information unless it displays a currently valid OMB control number. No person shall be subject to any penalty for failing to comply with a collection of information subject to the Paperwork Reduction Act (PRA) that does not display a valid OMB control number.

DATES: Submit written Paperwork Reduction Act (PRA) comments on or before November 26, 2010. If you anticipate that you will be submitting PRA comments, but find it difficult to do so within the period of time allowed by this notice, you should advise the FCC contact listed below as soon as possible.

ADDRESSES: Submit all PRA comments to Nicholas A. Fraser, Office of Management and Budget, via fax at 202-395-5167 or the Internet at Nicholas_A._Fraser@omb.eop.gov; and to Judith-B. Herman@fcc.gov, Federal Communications Commission. Send your PRA comments by e-mail to PRA@fcc.gov. To view a copy of this information collection request (ICR) submitted to OMB: (1) Go to the Web page http://reginfo.gov/public/do/PRAMain, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information or copies of the information collection(s), contact Judith B. Herman at 202-418-0214 or via the Internet at Judith-B.Herman@fcc.gov.

SUPPLEMENTARY INFORMATION: OMB Control Number: 3060-0999.

Title: Hearing Aid Compatibility Status Report and Section 20.19, Hearing Aid-Compatible Mobile Handsets (Hearing Aid Compatibility Act).

Form No.: FCC Form 655—electronic only.

Type of Review: Revision of a currently approved collection.

Respondents: Business or other for-profit.

Number of Respondents: 925 respondents; 925 responses.

Estimated Time per Response: 1 hour—2.5 hours.

Frequency of Response: On occasion and annual reporting requirements and third party disclosure requirement.

Obligation to Respond: Required to obtain or retain benefits. Statutory authority for this information collection is contained in 47 U.S.C. 151, 154(i), 157, 160, 201, 202, 208, 214, 301, 303, 308, 309(j), 310 and 610.

Total Annual Burden: 12,063 hours.

Total Annual Cost: N/A.

Privacy Act Impact Assessment: N/A.

Nature and Extent of Confidentiality: Information in the reports may include confidential information. However, covered entities would be allowed to request that such materials submitted to the Commission be withheld from public inspection under 47 CFR 0.459 of the Commission's rules.

Needs and Uses: The Commission will submit this revised information collection (IC) to the Office of Management and Budget (OMB) during this comment period to obtain the full three-year clearance from them. The Commission is reporting no change in the burden estimates as previously approved by the OMB.

On August 5, 2010, the Commission adopted final rules in a Second Report and Order, FCC 10-145, that, among other things, updated disclosure requirements for manufacturers and service providers. Manufacturers and service providers are now required to adequately inform consumers about the functionality and the limitations of their handsets in two specific situations. First, for handsets that meet hearing aid compatibility requirements over all air interfaces and frequency bands for which technical standards have been established, but that are also capable of supporting voice operations in new frequency bands and air interfaces for which standards do not exist, the following mandatory disclosure language must be clearly and effectively conveyed to consumers wherever the hearing aid compatibility rating for the handset is provided, including the point of sale and on company Web sites:

“This phone has been tested and rated for use with hearing aids for some of the wireless technologies that it uses. However, there may be some newer wireless technologies used in this phone that have not been tested yet for use with hearing aids. It is important to try the different features of this phone thoroughly and in different locations, using your hearing aid or cochlear implant, to determine if you hear any interfering noise. Consult with your service provider or the manufacturer of this phone for information on hearing aid compatibility. If you have questions about return or exchange policies, consult your service provider or phone retailer.”

Second, the Commission is allowing companies offering one or two handset models over the GSM air interface, if they would have been eligible for the amended de minimis exception rule but for their size, to satisfy their obligation to offer one hearing aid-compatible handset over the GSM air interface by offering a handset that lets the consumer reduce maximum transmit power for GSM operations in the 1900 MHz band by up to 2.5 decibels. The Commission grants this exception subject to certain conditions, one of which is that companies that choose to use this exception must adequately inform consumers of the need to select the power reduction option to achieve hearing aid compatibility and of the consequences of doing so. Specifically, wherever a manufacturer or service provider provides the hearing aid compatibility rating for such a handset, it shall indicate that user activation of a special mode is necessary to meet the hearing aid compatibility standard. In addition, the handset manual or a product insert must explain how to activate the special mode and that doing so may result in a diminution of coverage.

Beyond the updated disclosure requirements noted above, one additional change is being made to the current collection. Two fields will be changed on FCC Form 655 in order to clarify information previously gathered in this collection and bring the collection into conformance with the amended rules. Specifically, manufacturers and service providers will be asked to provide the brand names under which they are offering digital commercial mobile radio services (if a service provider) or handsets (if a device manufacturer), in order to avoid confusion by identifying products offered under more than one brand name. In addition, the question concerning handsets capable of Wi-Fi voice operation will be expanded to include handsets capable of voice communication over any air interface or frequency band for which hearing aid compatibility technical standards do not exist without changes to the hardware in the handset. As a result, the Commission is requesting a revision of this currently approved collection due to the new disclosure requirements under Section 20.19(f) of the Commission's rules as well as the two fields changed on FCC Form 655.

The updated disclosures will create no additional burden for manufacturers and service providers, but will ensure that consumers and the Commission are provided with consistent and sufficient information about the functionality and the limitations of offered handsets. These actions are taken to ensure that consumers who use hearing aids and cochlear implants have access to a variety of phones and are adequately informed about the functionality and the limitations of the handsets, while preserving competitive opportunities for small companies as well as opportunities for innovations and investment. Similarly, the additional fields on the FCC Form 655 will clarify the responses already required by the form, helping the Commission compile data and monitor compliance with the hearing aid compatibility rules.

Federal Communications Commission.
Bulah P. Wheeler,
Deputy Manager.

[FR Doc. 2010-27208 Filed 10-26-10; 8:45 am]

BILLING CODE 6712-01-P